NATIONAL TRANSPORTATION SAFETY BOARD

Plan for Information Collection Activity: Submission for OMB Review; Comment Request

AGENCY: National Transportation Safety Board (NTSB).

ACTION: Notice.

SUMMARY: The NTSB is announcing it is submitting a plan for an Information Collection Request (ICR) to the Office of Management and Budget (OMB) for approval, in accordance with the Paperwork Reduction Act. This ICR Plan describes a web-based report form an aircraft operator may use to report a serious incident as defined in NTSB regulations. Providing the option to permit operators to file reports electronically will increase efficiency and be more convenient for operators. This ICR Plan is the second of two required notices, pursuant to OMB regulations concerning approvals of information collections. This notice again describes the nature of the information collection and its expected burden and advises the public it may submit comments on this proposed information collection to the OIRA desk officer for the NTSB.

DATES: Submit written comments regarding this proposed plan for the collection of information by November 21, 2016.

ADDRESSES: Interested members of the public may submit written comments on the collection of information to the OMB Desk Officer for the NTSB at Office of Management and Budget, 725 17th Street NW., Washington, DC 20503, or via fax: 202-395-5806, (this is not a toll-free number), or email: OIRA-submission@omb.eop.gov. Commenters are encouraged, but not required, to send a courtesy copy of any comments to the National Transportation Safety Board, Office of Aviation Safety, 490 L'Enfant Plaza SW., Washington, DC 20594.

FOR FURTHER INFORMATION, CONTACT: Josh Lindberg, NTSB Office of Aviation Safety, at (202) 314-6667.

SUPPLEMENTARY INFORMATION: In accordance with OMB regulations that require this Notice for proposed ICRs, the NTSB herein notifies the public that it may submit comments on this proposed ICR Plan to the Office of Information and Regulatory Affairs (OIRA) Desk Officer for the NTSB. 5 CFR 1320.10(a). This request for approval is not associated with a rulemaking activity.

This notice follows the first of the two required notices requesting comment, which appeared in the Federal Register on July 7, 2015. 80 FR 38751. Comments in response to the first notice were due by September 7, 2015. The NTSB did not receive any comments.

A. Paperwork Reduction Act Requirement

In accordance with OMB regulations that require this Notice for proposed ICRs, the NTSB herein notifies the public that it may submit comments on this proposed information collection. Title 5 CFR 1320.10(a) requires this notice to “direct comments to the Office of Information and Regulatory Affairs of OMB, Attention: Desk Officer for [the NTSB]. A copy of the notice submitted to the Federal Register, together with the date of expected publication, shall be included in the agency's submission to OMB.”

As stated in the NTSB's first of the two required notices under the Paperwork Reduction Act, the objective of these requests for comment is to receive input from the public concerning: (1) Whether the proposed collection is necessary for the NTSB to perform its mission; (2) the accuracy of the estimated burden; (3) ways for the NTSB to enhance the quality, usefulness, and clarity of the collected information; and (4) ways that the burden could be minimized without reducing the quality of the collected information. 5 CFR 1320.8(d)(1). Following publication of this notice, the NTSB will submit to OIRA its evaluation of the above-mentioned considerations, in accordance with § 1320.8.

B. Description of Web-Based Report Form

The NTSB's proposed use of a web-based reporting form to collect information concerning reportable aviation incidents is distinct from its Pilot/Operator Aircraft Accident/Incident Report Form (NTSB Form 6120.1), which the NTSB uses in determining the facts, conditions, and circumstances for aircraft accident prevention activities and for statistical purposes.¹ The proposed electronic form to report serious incidents, as listed at 49 CFR 830.5, will be a concise electronic form available for completion on the NTSB Web site. The NTSB will obtain information on the form to determine whether to commence an investigation into the facts of the incident.

¹ See Information Collection Review Reference Number 201311-3147-001; OMB Control Number 3147-0001.

The form will ask, “[w]hich of the following incidents did you experience?” and include a listing of the serious incidents operators are required to report under 49 CFR 830.5. Respondents can check the link to the appropriate incident and fill out the information required to be reported for that incident. The form also asks whether serious injuries or substantial damage occurred, as well as whether the incident involved an unmanned aircraft system (UAS). The form will include web hyperlinks to the definitions of “serious injury” and “substantial damage,” as defined at 49 CFR 830.2, and a link to guidance on reporting UAS accidents and incidents. If a respondent answers “yes” to any of those questions, the information collection will conclude by displaying an instruction for the respondent to contact the NTSB Response Operations Center at 844-373-9922. The next set of questions on the form will seek the following information: Name of operator; date and time of event (UTC); flight origin and intended destination; aircraft registration number and type; approximate location of the incident; number of pilots, crew, and passengers; and a description of the nature of the incident. At the conclusion of the form, the form will seek the respondent's name, email address, and phone number.

C. Use of Information on the Web-Based Incident Report Form

The NTSB will use the information provided on the electronic report form for serious incidents to determine whether to commence an investigation into the incident. Everyone involved in an NTSB investigation, including the parties to the investigation (as defined at 49 CFR 831.11), depend on accurate information the NTSB collects while conducting the investigation and determining which areas warrant focus and attention. In this regard, if the NTSB determines it will commence an investigation into the incident the operator has reported via the electronic form, the NTSB will consider the form to be critical to its statutory function to investigate aviation accidents and incidents. In addition, the accuracy of the information the NTSB collects on the form will be used in issuing safety recommendations following the incident, in an effort to prevent future aviation accidents and incidents.

The NTSB has considered whether this collection of information on the draft electronic form is duplicative of any other agency's collections of information. The NTSB is unaware of any form the Federal Aviation Administration disseminates that solicits the same information the electronic form will require. However, the NTSB notes some operators may choose to provide a voluntary report to the National Aeronautics and Space Administration (NASA) in accordance with the Aviation Safety Reporting Program (ASRP).²

² Under the ASRP, the Administrator of the Federal Aviation Administrator may waive the imposition of a sanction, despite the finding of a regulatory violation, as long as certain requirements are satisfied. Aviation Safety Reporting Program, Advisory Circular 00-46E (Dec. 16, 2011). To take advantage of the program, one must voluntarily file a report with NASA.

The NTSB notes informing the NTSB of a serious incident listed at 49 CFR 830.5 is not voluntary, but is required by 49 CFR 830.5 and 830.10. The NTSB, in general, will not accept partially completed forms; NTSB investigators will exercise their discretion in requesting completion of an electronic incident reporting form a respondent submits that is partially completed.

Currently, the NTSB accepts phone calls transmitting the information described above. The NTSB seeks to improve the efficiency of the receipt of the necessary information by offering respondents the option of submitting the information online.

The NTSB has reviewed the form carefully to ensure it has used plain, coherent, and unambiguous terminology in its request for information. While some incidents listed in the form contain terms specific to the aviation industry, the NTSB believes respondents completing the form will be knowledgeable about the terminology the NTSB uses in the form, and the NTSB has remained mindful of its choices of terms in the development of the draft web-based form. The NTSB estimates respondents will spend approximately 10 minutes in completing the form. The NTSB estimates approximately 50 respondents per year will complete the form, but notes this number may vary, given the unpredictable nature of the frequency of aviation incidents.

D. Request for Comments

In accordance with 44 U.S.C. 3506(c)(2)(A), the NTSB again requests feedback from the public concerning this proposed plan for information collection. In particular, the NTSB asks the public to evaluate whether the proposed collection of information is necessary; to assess the accuracy of the NTSB's burden estimate; to comment on how to enhance the quality, utility, and clarity of the information to be collected; and to comment on how the NTSB might minimize the burden of the collection of information.

The NTSB will work with OIRA to consider all feedback it receives in response to this notice. As described above, obtaining the information the NTSB seeks on these electronic incident report forms in a timely manner is important to the NTSB's mission in investigating incidents and thereby improving aviation safety. Therefore, obtaining approval from OIRA for this electronic collection of information is a priority for the NTSB.

Christopher A. Hart,
Chairman.

[FR Doc. 2016-25412 Filed 10-19-16; 8:45 am]

BILLING CODE 7533-01-P